FEDERAL COMMUNICATIONS COMMISSION

[CG Docket No. 02-386; DA 05-3174]

Minimum Customer Account Record Exchange Obligations on All Local and Interexchange Carriers

AGENCY: Federal Communications Commission.

ACTION: Notice; comments requested.

SUMMARY: In this document, the Consumer & Governmental Affairs Bureau (Bureau) seeks comment on Mid America Computer Corporation's (MACC's) Petition for expedited interim waiver, on behalf of its client companies, of the Commission's Customer Account Record Exchange (CARE) rules. The Petition asks the Commission to consider waiving the requirement that carriers indicate that the customer's account is subject to a preferred interexchange carrier (PIC) freeze, and the requirement that carriers notify the interexchange carrier that the PIC change order is rejected as mandated by the CARE rules.

DATES: Comments are due on or before February 2, 2006, and reply comments are due on or before February 13, 2006.

ADDRESSES: You may submit comments, identified by [docket number and/or rulemaking number], by any of the following methods:

• Federal eRulemaking Portal: http://www.regulations.gov. Follow the instructions for submitting comments.

• Federal Communications Commission's Web Site: http://www.fcc.gov/cgb/ecfs/. Follow the instructions for submitting comments.

• Mail: Parties who choose to file by paper should also submit their comment on diskette. These diskettes should be submitted, along with three paper copies to Kelli Farmer, Consumer & Governmental Affairs Bureau, Policy Division, 445 12th Street, SW., Room 5-A866, Washington, DC 20554. Such a submission should be on a 3.5 inch diskette formatted in an IBM compatible formatted using Word 97 or compatible software. The diskette should be accompanied by a cover letter and should be submitted in “read only” mode. The diskette should be clearly labeled with the commenter's name, proceeding (including the lead docket number in this case CG Docket No. 02-386), type of pleading (comment or reply comment), date of submission, and the name of the electronic file on the diskette. The label should also include the following phrase: “Disk Copy-Not an Original.” Each diskette should contain only one party's pleadings, preferably in a single electronic file. In addition, commenters must send diskette copies to the Commission's contractor at Portals II, 445 12th Street, SW., Room CY-B402, Washington, DC 20554.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Lisa Boehley, Consumer Policy Division, Consumer & Governmental Affairs Bureau, (202) 418-7395 (voice), Lisa.Boehley@fcc.gov.

SUPPLEMENTARY INFORMATION: This is a summary of the Commission's document, DA 05-3174, released December 12, 2005 regarding a petition filed by MACC against a Report and Order and Further Notice of Proposed Rulemaking the Commission released on February 25, 2005, published at 70 FR 32258 (June 2, 2005). The full text of document DA 05-3174, the MACC's submission, and copies of any subsequently filed documents in this matter will be available for public inspection and copying during regular business hours at the FCC Reference Information Center, Portals II, 445 12th Street, SW., Room CY-A257, Washington, DC 20554. Document DA 05-3174, the MACC's submission, and copies of subsequently filed documents in this matter may also be purchased from the Commission's contractor at Portals II, 445 12th Street, SW., Room CY-B402, Washington, DC 20554. Customers may contact the Commission's contractor at their Web site http://www.bcpiweb.com or call 1-800-378-3160. A copy of the MACC's submission may also be found by searching ECFS at http://www.fcc.gov/cgb/ecfs (insert CG Docket No. 02-386 into the proceeding block).

To request materials in accessible formats for people with disabilities (Braille, large print, electronic files, audio format), send an e-mail to fcc504@fcc.gov or call the Consumer & Governmental Affairs Bureau at 202-418-0530 (voice), 202-418-0432 (TTY). Document DA 05-3174 can also be downloaded in Word or Portable Document Format (PDF) at http://www.fcc.gov/cgb/policy. Pursuant to §§ 1.415 and 1.419 of the Commission's rules, 47 CFR 1.415, 1.419, interested parties may file comments and reply comments on or before the dates indicated on the first page of this document. Comments may be filed using: (1) the Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

Synopsis

On December 2, 2005, Mid America Computer Corporation (MACC) filed a petition on behalf of its client companies for expedited, interim waiver of requirements set forth in § 64.4002 of the Commission's customer account record exchange (CARE) rules. See Petition for Expedited Interim Waiver of § 64.4002 of the Commission's rules, filed by MACC, December 2, 2005 (Waiver Request). See also 47 CFR 64.4002 of the Commission rules. The CARE rules generally require interexchange carriers (IXCs) and local exchange carriers (LECs) to exchange certain customer account information that the Commission has determined is needed by carriers to properly bill their customers and to execute carrier change requests in a timely and efficient manner. See Rules and Regulations Implementing Minimum Customer Account Record Exchange Obligations on All Local and Interexchange Carriers, Report and Order and Further Notice of Proposed Rulemaking, 20 FCC Record 4560 (released February 25, 2005). The CARE rules became effective on September 21, 2005. See Rules and Regulations Implementing Minimum Customer Account Record Exchange Obligations on All Local and Interexchange Carriers, published at 70 FR 55302 (September 21, 2005).

MACC states that it provides billing and data processing services to small, rural incumbent LECs and, more recently, to competitive LECs that provide local and long distance telephone services. On behalf of its approximately 275 client companies, MACC asks the Commission for an interim waiver of subsection 64.4002(a)(7) and § 64.4002(c) of the Commission's CARE rules until September 1, 2006. Subsection 64.4002(a)(7) of the Commission's rules requires a LEC, upon receiving and processing a PIC selection submitted by a customer and placing the customer on the network of the customer's preferred IXC at the LEC's local switch, to provide certain customer account information to the IXC concerning the IXC's new customer. This would include, as relevant here, a notification that the IXC customer's account is subject to a PIC freeze. See 47 CFR 64.4002(a)(7) of the Commission's rules. Section 64.4002(c) of the Commission's rules requires a LEC to notify an IXC when the LEC has rejected or otherwise has not acted upon an IXC-submitted PIC change order and to provide the reason(s) why the PIC change order could not be processed. See 47 CFR 64.4002(c) of the Commission's rules.

MACC represents that it seeks an interim waiver only with respect to the two provisions of the Commission's CARE rules referenced above and that its processing services are “in compliance” with other requirements established in the CARE order. MACC contends that a grant of its Waiver Request is needed to allow it “sufficient time to complete [its] development of the software” required by MACC's clients to fully comply with the Commission's February 2005 CARE order. According to MACC, an interim waiver would allow it to include the programming changes needed to implement these two requirements in its next regularly-scheduled release of its operating support system product “without significant costs to its small rural LEC clients.”

Combining and incorporating the software solutions addressing these requirements with the “regularly-scheduled release of its operating support system product,” according to MACC, will avoid the need to issue “numerous updates” and thus limit the costs of any required updates to its clients.

Federal Communications Commission.
Jay Keithley,
Deputy Bureau Chief, Consumer & Governmental Affairs Bureau.

[FR Doc. 06-280 Filed 1-17-06; 8:45 am]

BILLING CODE 6712-01-P